DEPARTMENT OF TRANSPORTATION

Maritime Administration

Assistance to Small Shipyards Grant Program

AGENCY: Maritime Administration, Department of Transportation, Office of Shipyards and Marine Financing.

ACTION: Notice of Establishment of New Grant Program.

Catalog of Federal Domestic Assistance Number: 20.814.

FOR FURTHER INFORMATION CONTACT: Jean E. McKeever, Associate Administrator for Business and Workforce Development, Maritime Administration, 1200 New Jersey Ave., SE., Washington, DC 20590; phone: (202) 366-5737; fax: (202) 366-3511; or e-mail: jean.mckeever@dot.gov.

Key Dates: The period for submitting grant applications, as mandated by statute, commenced on December 27, 2007, and will terminate on February 25, 2008. The applications must be received by the Maritime Administration by 5 p.m. EST on February 25, 2008. Applications received later than this time will not be considered. The Maritime Administrator intends to award grants no later than April 24, 2008.

Funding Opportunity: Section 3506 of the National Defense Authorization Act for Fiscal Year 2006 (Pub. L. 109-163) and the section entitled “Assistance to Small Shipyards” in the Consolidated Appropriations Act, 2008, provides that the Maritime Administration shall establish an assistance program for small shipyards. Under this program, there is currently an aggregate of $10,000,000 available for grants for capital improvements, and related infrastructure improvements at qualified shipyards that will facilitate the efficiency, cost-effectiveness, and quality of domestic ship construction for commercial and Federal Government use. Such grants may not be used to construct buildings or other physical facilities or to acquire land unless such use is specifically approved by the Administrator as being consistent with and supplemental to capital and related infrastructure improvements.

Award Information: The Maritime Administration intends to award the full amount of the available funding through grants to the extent that there are worthy applications. There is no dollar limitation on the amount of a grant for which application may be made; however, the Maritime Administration will seek to obtain the maximum benefit from the available funding by awarding grants for as many of the most worthy projects as possible. The start date and period of performance for each award will depend on the specific project and must be agreed to by the Maritime Administration.

Eligibility Information:

1. Eligible Applicants—The statutes referenced in “Funding Opportunity” above, when read together, provide that either shipyards or State or local governments on behalf of shipyards can apply for grants. The shipyard for which a grant is sought must be one in a single geographical location, located in or near a maritime community, that (1) is a small business concern (within the meaning of section 3 of the Small Business Act (15 U.S.C. 632); and (2) does not have more than 600 production employees.

2. Other Considerations in Making Awards—In providing grants, the Administrator shall take into account (a) the economic circumstances and conditions of the maritime community near to which a shipyard is located; and (b) the local, State and regional economy in which such community is located.

Matching Requirements:

(1) Except as provided in paragraph (2) below, Federal funds for any eligible project shall not exceed 75 percent of the total cost of such project. The remaining portion of the cost shall be paid in funds from or on behalf of the awardee. The applicant will be required to submit detailed financial statements and any necessary supporting documentation demonstrating how and when such matching requirement is proposed to be funded.

(2) Exceptions—

(A) Small Projects.—Paragraph (1) shall not apply to grants for stand-alone projects costing not more than $26,075. The amount under this subparagraph shall be indexed to the consumer price index and modified each fiscal year after the annual publication of the consumer price index.

(B) Reduction in Matching Requirement.—If the Administrator determines that a proposed project merits support and cannot be undertaken without a higher percentage of Federal financial assistance, the Administrator may award a grant for such project with a lesser matching requirement than is described in paragraph (1).

Application: An application should be filed on Form SF-424 which can be found on the internet at Grants.gov. (Although the form is available electronically, we request that the application be filed in hard copy as indicated below due to the amount of information requested.) In order to allow us to evaluate whether an applicant meets the statutory criteria, the application for a grant should also provide the following information as an addendum to Form SF-424—

1. Unique identifier of entity's parent company (when applicable): Data Universal Numbering System (DUNS) (when applicable).

2. Shipyard company officer's certification or certification by an appropriate State or local government official, as applicable, as to shipyard's compliance with the following requirements:

(a) The shipyard for which a grant is sought is located in a single geographical location in or near a maritime community;

(b) The shipyard is a small business concern (within the meaning of section 3 of the Small Business Act (15 U.S.C. 632); and

(c) The shipyard has no more than 600 production employees.

3. A comprehensive description of the project.

4. A comprehensive description of the need for the project and how the project will facilitate the efficiency, cost-effectiveness, and quality of domestic ship construction for commercial and Federal Government use.

5. A detailed itemization of the cost of the project together with any supporting documentation.

6. If a matching requirement is necessary for the requested grant, detailed financial statements together with any supporting documentation demonstrating how and when such matching requirement is proposed to be funded.

7. Most recent audited financial statements.

8. Detailed methodology and timeline for implementing the project.

9. Shipyard company officer's certification or certification by an appropriate State or local government official, as applicable, that the grant recipient has the authority to carry out the proposed project.

10. Any existing programs or arrangements that can be used to supplement or leverage the federal grant assistance.

11. Information concerning (a) the economic circumstances and conditions of the maritime community near to which the shipyard is located; and (b) the local, State, and regional economy in which such community is located.

12. Applicant must submit a certification in accordance with the Department of Transportation's regulation restricting lobbying, 49 CFR Part 20, that the applicant has not, and will not, make any prohibited payments out of the requested grant.

Additional information may be requested as deemed necessary by the Maritime Administration in order to facilitate and complete its review of the application. If such information is not provided, the Maritime Administration may deem the application incomplete and cease processing it.

Where To File Application: An original copy of the application together with six additional copies shall be submitted to Jean E. McKeever, Associate Administrator for Business and Workforce Development, Room W21-318, Maritime Administration, 1200 New Jersey Ave., SE., Washington, DC 20590.

Evaluation of Applications: The Administrator will evaluate the applications on the basis of the economic information provided and in terms of how well the project for which a grant is requested will facilitate the efficiency, cost-effectiveness, and quality of domestic ship construction for commercial and Federal Government use. The Administrator will award grants in his sole discretion in such amounts and under such conditions for those projects he determines will best further the statutory purposes of the small shipyard program.

Conditions Attached To Awards: The grant agreement will set out the records to be maintained by the awardee which must be available for review and audit by the Administrator, as well as any other conditions and requirements.

(Authority: 49 CFR 1.66)

Dated: January 2, 2008.
By Order of the Maritime Administrator.
Murray A. Bloom,
Acting Secretary, Maritime Administration.

[FR Doc. E8-216 Filed 1-9-08; 8:45 am]

BILLING CODE 4910-81-P